DEPARTMENT OF THE INTERIOR

National Park Service

[NPS-WASO-NAGPRA-NPS0039107; PPWOCRADN0-PCU00RP14.R50000]

Notice of Intended Repatriation: California State University San Bernardino, San Bernardino, CA

AGENCY: National Park Service, Interior.

ACTION: Notice.

SUMMARY: In accordance with the Native American Graves Protection and Repatriation Act (NAGPRA), the California State University San Bernardino (CSU San Bernardino) intends to repatriate certain cultural items that meet the definition of objects of cultural patrimony and that have a cultural affiliation with the Indian Tribes or Native Hawaiian organizations in this notice.

DATES: Repatriation of the cultural items in this notice may occur on or after December 26, 2024.

ADDRESSES: Michael Chavez NAGPRA Program Manager, CSU San Bernardino, 5500 University Parkway, San Bernardino, CA 92407, telephone (909) 537-3468, email michael.chavez@csusb.edu.

SUPPLEMENTARY INFORMATION: This notice is published as part of the National Park Service's administrative responsibilities under NAGPRA. The determinations in this notice are the sole responsibility of CSU San Bernardino, and additional information on the determinations in this notice, including the results of consultation, can be found in the summary or related records. The National Park Service is not responsible for the determinations in this notice.

Abstract of Information Available

A total of 271 lots of cultural items representing two distinct collections have been requested for repatriation.

The first collection of objects of cultural patrimony consists of 80 lots of groundstone, 54 lots of faunal bone, 31 lots of metate frags, 17 lots of debitage, 32 cores, 20 hammerstones, six bifaces, two pecking tools, two lots of ochre, seven manos, six lots of asphaltum, 10 lots of shell, one lot of eggshells, and one lot of land snail shell. These materials were excavated in 1990 from CA-SBR-6815 by a cultural resource firm who later donated a portion of the collection to CSUSB as a teaching collection. This collection has no ancestral remains or associated funerary objects. There was no known testing completed on the collection housed at CSUSB.

At an unknown time prior to 1990, a mortar and pestle were removed from a residential address in the city of San Bernardino east of East Twin Creek and West of Little Sands creek, north of 40th street. These objects of cultural patrimony were excavated during construction at the residence and were kept by the homeowner until being donated to the University in February of 2023. Testing on these materials has not taken place as the materials were held in the private collection of the homeowner before coming directly to the University.

Determinations

The CSU San Bernardino has determined that:

• The 271 lots of material of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after December 26, 2024. If competing requests for repatriation are received, the CSU San Bernardino must determine the most appropriate requestor prior to repatriation. Requests for joint repatriation of the cultural items are considered a single request and not competing requests. The CSU San Bernardino is responsible for sending a copy of this notice to the Indian Tribes and Native Hawaiian organizations identified in this notice and to any other consulting parties.

Authority: Native American Graves Protection and Repatriation Act, 25 U.S.C. 3004 and the implementing regulations, 43 CFR 10.9.

Dated: November 18, 2024.
Melanie O'Brien,
Manager, National NAGPRA Program.

[FR Doc. 2024-27512 Filed 11-22-24; 8:45 am]

BILLING CODE 4312-52-P